DEPARTMENT OF ENERGY

Federal Energy Regulatory Commission

[Docket Nos. RP00-407-003, and RP00-619-004]

High Island Offshore System; Notice of Compliance Filing

February 12, 2002.

Take notice that on February 5, 2002, High Island Offshore System (HIOS), tendered for filing as part of its FERC Gas Tariff, Third Revised Volume No. 1, the tariff sheets referenced in Appendix A to its filing. HIOS requests that the tariff sheets become effective March 7, 2002.

HIOS states that it is submitting the referenced tariff sheets to comply with the directives of the Commission's November 8, 2001 Order regarding segmentation and secondary mainline point priority.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3913 Filed 2-15-02; 8:45 am]

BILLING CODE 6717-01-P